DEPARTMENT OF STATE

[Public Notice 5773]

Culturally Significant Objects Imported for Exhibition Determinations: “The Herculaneum Women and the Origins of Archaeology”

Summary: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236 of October 19, 1999, as amended, and Delegation of Authority No. 257 of April 15, 2003 [68 FR 19875], I hereby determine that the objects to be included in the exhibition “The Herculaneum Women and the Origins of Archaeology”, imported from abroad for temporary exhibition within the United States, are of cultural significance. The objects are imported pursuant to a loan agreement with a foreign owner. I also determine that the exhibition or display of all of these objects at the Getty Villa, Los Angeles, California, beginning on or about July 12, 2007, until on or about November 5, 2007, and the continued temporary display of two of the objects until on or about April 14, 2008, is in the national interest. Public Notice of these Determinations is ordered to be published in the Federal Register.

For Further Information Contact: For further information, including a list of the exhibit objects, contact Julie Simpson, Attorney-Adviser, Office of the Legal Adviser, U.S. Department of State (telephone: (202) 453-8050). The address is U.S. Department of State, SA-44, 301 4th Street, SW., Room 700, Washington, DC 20547-0001.

Dated: April 6, 2007.
C. Miller Crouch,
Principal Deputy Assistant Secretary for Educational and Cultural Affairs, Department of State.

[FR Doc. E7-7037 Filed 4-12-07; 8:45 am]

BILLING CODE 4710-05-P